DEPARTMENT OF THE INTERIOR

Fish and Wildlife Service

[FWS-R4-R-2008-N0319; 40136-1265-0000-S3]

Bogue Chitto National Wildlife Refuge, St. Tammany and Washington Parishes, LA, and Pearl River County, MS

AGENCY: Fish and Wildlife Service, Interior.

ACTION: Notice of intent to prepare a comprehensive conservation plan and environmental assessment; request for comments.

SUMMARY: We, the U.S. Fish and Wildlife Service (Service), intend to prepare a comprehensive conservation plan (CCP) and associated National Environmental Policy Act (NEPA) documents for Bogue Chitto National Wildlife Refuge (NWR). We provide this notice in compliance with our CCP policy to advise other agencies, tribes, and the public of our intentions, and to obtain suggestions and information on the scope of issues to consider in the planning process.

DATES: To ensure consideration, we must receive your written comments by April 6, 2009. We will hold a public meeting during the scoping phase of the planning process; we will announce the meeting date, time, and place in local media.

ADDRESSES: Send comments, questions, and requests for information to: Tina Chouinard, Natural Resource Planner, Hatchie National Wildlife Refuge, 6772 Highway 76 South, Stanton, TN 38069.

FOR FURTHER INFORMATION CONTACT: Tina Chouinard; telephone: 731/780-8208; fax: 731/772-7839; e-mail: tina_chouinard@fws.gov .

SUPPLEMENTARY INFORMATION:

Introduction

With this notice, we initiate our process for developing a CCP for Bogue Chitto NWR in St. Tammany and Washington Parishes, Louisiana, and Pearl River County, Mississippi. This notice complies with our CCP policy to (1) Advise other Federal and State agencies, Tribes, and the public of our intention to conduct detailed planning on this refuge; and (2) obtain suggestions and information on the scope of issues to consider in the environmental document and during development of the CCP.

Background

The CCP Process

The National Wildlife Refuge System Improvement Act of 1997 (16 U.S.C. 668dd-668ee) (Improvement Act), which amended the National Wildlife Refuge System Administration Act of 1966, requires us to develop a CCP for each national wildlife refuge. The purpose for developing a CCP is to provide refuge managers with a 15-year strategy for achieving refuge purposes and contributing to the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation, wildlife photography, and environmental education and interpretation. We will review and update the CCP at least every 15 years in accordance with the Improvement Act.

Each unit of the National Wildlife Refuge System is established for specific purposes. We use these purposes as the foundation for developing and prioritizing the management goals and objectives for each refuge within the National Wildlife Refuge System mission, and to determine how the public can use each refuge. The planning process is a way for us and the public to evaluate management goals and objectives for the best possible conservation approach to this important wildlife habitat, while providing for wildlife-dependent recreation opportunities that are compatible with the refuge's establishing purposes and the mission of the National Wildlife Refuge System.

Our CCP process provides participation opportunities for Tribal, State, and local governments; agencies; organizations; and the public. At this time we encourage input in the form of issues, concerns, ideas, and suggestions for the future management of Bogue Chitto NWR. Special mailings, newspaper articles, and other media outlets will be used to announce opportunities for input throughout the planning process.

We will conduct the environmental assessment in accordance with the requirements of the National Environmental Policy Act of 1969, as amended (NEPA) (42 U.S.C. 4321 et seq.); NEPA regulations (40 CFR parts 1500-1508); other appropriate Federal laws and regulations; and our policies and procedures for compliance with those laws and regulations.

Bogue Chitto NWR was established in 1981 and encompasses 36,000 acres of the Pearl River Basin. The refuge is located about 9 miles northeast of Slidell, Louisiana, in St. Tammany and Washington Parishes, and also in Pearl River County, Mississippi. There are two road access points: One from Interstate 59 at the Louisiana/Mississippi border, and one west of Mississippi Highway 43 on Dumas Wise Road. The roads provide access to a limited portion of the refuge. The office for the refuge is located at the Southeast Louisiana Refuge Complex Headquarters in Lacombe, LA.

The refuge's bottomland hardwood forests contain sweetgum-water oak stands interspersed with bald cypress-water tupelo brakes and overcup oak-water hickory stands bisected by meandering, unchanneled rivers. Adjacent to these forested wetlands, the refuge is comprised of approximately 1,000 acres of upland pine habitat (e.g., longleaf pine, slash pine, and loblolly pine).

Public use on Bogue Chitto NWR is primarily hunting and fishing, with some camping occurring along the rivers. Most of the refuge is accessible only by boat.

Public Availability of Comments

Before including your address, phone number, e-mail address, or other personal identifying information in your comment, you should be aware that your entire comment, including your personal identifying information, may be made publicly available at any time. While you can ask us in your comment to withhold your personal identifying information from public review, we cannot guarantee that we will be able to do so.

Authority: This notice is published under the authority of the National Wildlife Refuge System Improvement Act of 1997, Public Law 105-57.

Dated: December 18, 2008.
Cynthia K. Dohner,
Acting Regional Director.

[FR Doc. E9-3606 Filed 2-19-09; 8:45 am]

BILLING CODE 4310-55-P